ENVIRONMENTAL PROTECTION AGENCY

40 CFR Part 52

EPA-R09-OAR-2019-0655; FRL-10012-28-Region 9 Air Plan Approval; California; San Joaquin Valley Unified Air Pollution Control District and Feather River Air Quality Management District

AGENCY: Environmental Protection Agency (EPA).

ACTION: Final rule.

SUMMARY: The Environmental Protection Agency (EPA) is taking final action to approve revisions to the San Joaquin Valley Unified Air Pollution Control District (SJVUAPCD or District) and the Feather River Air Quality Management District (FRAQMD) portions of the California State Implementation Plan (SIP) under the Clean Air Act (CAA or Act). For the SJVUAPCD, these revisions concern a rule intended to track information related to emissions of volatile organic compounds (VOCs) and particulate matter (PM) from commercial charbroilers, and an administrative rule for the registration of certain emission units historically exempted from the SJVUAPCD's permit requirements. We are approving into the California SIP amendments to a SJVUAPCD local rule, which require owners and operators of commercial underfired charbroilers to submit a one-time information report and which subject certain underfired charbroilers to registration and weekly recordkeeping requirements. We are also approving a SJVUAPCD rule addressing registration requirements for these and certain other emission units. For the FRAQMD, these revisions concern a negative declaration for the Control Techniques Guidelines (CTG) for the Oil and Natural Gas Industry.

DATES: This rule is effective October 14, 2020.

ADDRESSES: The EPA has established a docket for this action under Docket ID No. EPA-R09-OAR-2019-0655. All documents in the docket are listed on the https://www.regulations.gov website. Although listed in the index, some information is not publicly available, e.g., Confidential Business Information (CBI) or other information the disclosure of which is restricted by statute. Certain other material, such as copyrighted material, is not placed on the internet and will be publicly available only in hard copy form. Publicly available docket materials are available through https://www.regulations.gov, or please contact the person identified in the FOR FURTHER INFORMATION CONTACT section for additional availability information.

FOR FURTHER INFORMATION CONTACT: Stanley Tong, EPA Region IX, 75 Hawthorne St., San Francisco, CA 94105. By phone: (415) 947-4122 or by email at tong.stanley@epa.gov. Or Nicole Law, EPA Region IX, 75 Hawthorne St., San Francisco, CA 94105. By phone: (415) 947-4126 or by email at law.nicole@epa.gov.

SUPPLEMENTARY INFORMATION: Throughout this document, “we,” “us” and “our” refer to the EPA.

Table of Contents

I. Proposed Action

II. Public Comments and EPA Responses

III. EPA Action

IV. Incorporation by Reference

V. Statutory and Executive Order Reviews

I. Proposed Action

On May 29, 2020 (85 FR 32327), the EPA proposed to approve the following documents listed in Table 1 into the California SIP.

Table 1—Submitted Documents
Local agency | Rule or document | Adopted/ amended | Submitted
SJVUAPCD | Rule 2250—Permit-Exempt Equipment Registration | Adopted 10/19/2006 | ¹ 4/30/2020
SJVUAPCD | Rule 4692—Commercial Charbroiling | Amended 06/21/2018 | ² 11/21/2018
FRAQMD | Reasonably Available Control Technology (RACT) State Implementation Plan (SIP) Revision for the South Sutter County Portion of the Sacramento Metropolitan Nonattainment Area for 8-Hour ozone—Negative Declaration for Control Techniques Guidelines for the Oil and Natural Gas Industry | Adopted 08/06/2018 | ³ 12/07/2018

We proposed to approve SJVUAPCD Rule 2250 and amended Rule 4692, and FRAQMD's negative declaration for the Control Techniques Guidelines for the Oil and Natural Gas Industry (EPA-453/B-16-001), because we determined that they comply with the relevant CAA requirements. Our proposed action contains more information on the documents and our evaluation.

¹ This submittal was transmitted to the EPA by a letter from CARB dated April 30, 2020.

² This submittal was transmitted to the EPA by a letter from CARB dated November 16, 2018.

³ This submittal was transmitted to the EPA by a letter from CARB dated December 2, 2018.

II. Public Comments and EPA Responses

The EPA's proposed action provided a 30-day public comment period. The public comment period closed on June 29, 2020. During this period, we received one anonymous comment that supported our proposed approval.

III. EPA Action

No comments were submitted that change our assessment of the rules and negative declaration as described in our proposed action. Therefore, as authorized in section 110(k)(3) of the Act, the EPA is fully approving the documents listed in Table 1 into the California SIP.

IV. Incorporation by Reference

In this rule, the EPA is finalizing regulatory text that includes incorporation by reference. In accordance with the requirements of 1 CFR 51.5, the EPA is finalizing the incorporation by reference of the SJVUAPCD rules described in the amendments to 40 CFR part 52 set forth below. The EPA has made, and will continue to make, these documents available through www.regulations.gov and at the EPA Region IX Office (please contact the person identified in the FOR FURTHER INFORMATION CONTACT section of this preamble for more information).

V. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide the EPA with the discretionary authority to address, as appropriate, disproportionate human health or environmental effects, using practicable and legally permissible methods, under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by November 13, 2020. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Nitrogen dioxide, Ozone, Particulate Matter, Reporting and recordkeeping requirements, Volatile organic compounds.

Dated: July 31, 2020.
John Busterud,
Regional Administrator, Region IX.

For the reasons stated in the preamble, the EPA amends Part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.220 is amended by adding paragraphs (c)(310)(i)(A)(2) and (c)(379)(i)(C)(8), revising paragraph (c)(527)(i)(B) and adding paragraph (c)(540) to read as follows:

§ 52.220 Identification of plan—in part.

* * * * *

(c) * * *

(310) * * *

(i) * * *

(A) * * *

(2) Previously approved on June 3, 2003 in paragraph (c)(310)(i)(A)(1) of this section and now deleted with replacement in paragraph (c)(527)(i)(B)(1) of this section, Rule 4692, adopted on March 21, 2002.

* * * * *

(379) * * *

(i) * * *

(C) * * *

(8) Previously approved on November 3, 2011 in paragraph (c)(379)(i)(C)(5) of this section and now deleted with replacement in paragraph (c)(527)(i)(B)(1) of this section, Rule 4692, “Commercial Charbroiling,” amended on September 17, 2009.

* * * * *

(527) * * *

(i) * * *

(B) San Joaquin Valley Unified Air Pollution Control District.

(1) Rule 4692, “Commercial Charbroiling,” amended on June 21, 2018.

(2) [Reserved]

* * * * *

(540) New regulations for the following APCD were submitted on April 30, 2020, by the Governor's designee, as an attachment to a letter dated April 30, 2020.

(i) Incorporation by reference.

(A) San Joaquin Valley Unified Air Pollution Control District.

(1) Rule 2250, “Permit-Exempt Equipment Registration,” adopted October 19, 2006.

(2) [Reserved]

(B) [Reserved]

(ii) [Reserved]

§ 52.222 [AMENDED]

3. Section 52.222 is amended by revising paragraph (a)(11) to read as follows:

(a) * * *

(11) Feather River Air Quality Management District.

(i) Negative declarations for Feather River Air Quality Management District.

CTG source category | Negative declaration CTG reference document | 2006 RACT SIP submitted 7/11/07 | 2009 RACT SIP submitted 10/27/09 | 2014 RACT SIP submitted 9/29/14
Aerospace | EPA-453/R-97-004—Control of VOC Emissions from Coating Operations at Aerospace Manufacturing and Rework | X |  | X
Automobile Coating; Metal Coil Container, & Closure; Paper & Fabric | EPA-450/2-77-008—Control of Volatile Organic Emissions from Existing Stationary Sources—Volume II Surface Coating of Cans, Coils, Paper, Fabrics, Automobiles, and Light-Duty Trucks | X |  | X
Automobile and Light-Duty Truck Assembly Coatings | EPA-453/R-08-006—Control Techniques Guidelines for Automobile and Light-Duty Assembly Coatings |  | X | X
Cutback Asphalt | EPA-450/2-77-037—Control of Volatile Organic Emissions from Use of Cutback Asphalt | X |  | X
Dry Cleaning | EPA-450/3-82-009—Control of Volatile Organic Compound Emissions from Large Petroleum Dry Cleaners | X |  | X
Flat Wood Paneling Coatings | EPA-453/R-06-004—Control Techniques Guidelines for Flat Wood Paneling Coatings |  | X | X
Fiberglass Boat Manufacturing Materials | EPA-453/R-08-004—Control Techniques Guidelines for Fiberglass Boat Manufacturing Materials |  | X | X
Flexible Package Printing | EPA-453/R06-003—Control Techniques Guidelines for Flexible Package Printing |  | X | X
Gasoline Loading Terminal | EPA-450/2-77-026—Control of Hydrocarbons from Tank Truck Gasoline Loading Terminals | X |  | X
Gasoline Trucks | EPA-450/2-78-051—Control of Volatile Organic Compound Leaks from Gasoline Tank Trucks and Vapor Collection Systems | X |  | X
Gasoline Bulk Plants | EPA-450/2-77-035—Control of Volatile Organic Emissions from Gasoline Bulk Plants | X |  | X
Graphic Arts Rotogravure and Flexography | EPA-450/2-78-033—Control of Volatile Organic Emissions from Existing Stationary Sources—Volume VIII: Rotogravure and Flexography | X |  | X
Industrial Cleaning Solvents | EPA-453/R-06-001—Control Techniques Guidelines for Industrial Cleaning Solvents | X | X | X
Large Appliance Coating | EPA-450/2-77-034—Control of Volatile Organic Emissions from Existing Stationary Sources, Volume V: Surface Coating of Large Appliances | X |  | X
Large Appliance Coating | EPA-453/R-07-004—Control Techniques for Large Appliance Coatings |  | X | X
Magnet Wire Coating | EPA-450/2-77-033—Control of Volatile Organic Emissions from Existing Stationary Sources—Volume IV: Surface Coating of Insulation of Magnet Wire | X |  | X
Metal Can Coating; Metal Coil Coating | EPA-450/2-77-008—Control of Volatile Organic Emissions from Existing Stationary Sources—Volume II: Surface Coating of Cans, Coils, Paper, Fabrics, Automobiles, and Light-Duty Trucks | X |  | X
Metal Furniture | EPA-450/2-77-032—Control of Volatile Organic Emissions from Existing Stationary Sources—Volume III: Surface Coating of Metal Furniture | X |  | X
Metal Furniture Coatings | EPA-453/R-07-005—Control Techniques Guidelines for Metal Furniture Coatings |  | X | X
Metal Parts and Products | EPA-450/2-78-015—Control of Volatile Organic Emissions from Existing Stationary Sources—Volume VI: Surface Coating of Miscellaneous Parts and Products | X |  | X
Miscellaneous Industrial Adhesives | EPA-453/R-08-005—Control Techniques Guidelines for Miscellaneous Industrial Adhesives | X | X | X
Miscellaneous Metal and Plastic Parts Coatings | EPA-453/R-08-003—Control Techniques Guidelines for Miscellaneous Metal and Plastic Parts Coatings |  | X | X
Natural Gas/Gasoline | EPA-450/2-83-007—Control of VOC Equipment Leaks from Natural Gas/Gasoline Processing Plants | X |  | X
Offset Lithographic Printing and Letterpress Printing | EPA-453/R-06-002—Control Techniques Guidelines for Offset Lithographic Printing and Letterpress Printing |  | X | X
Paper and Fabric Coating | EPA-450/2-77-008—Control of Volatile Organic Emissions from Existing Stationary Sources—Volume II: Surface Coating of Cans, Coils, Paper, Fabrics, Automobiles, and Light-Duty Trucks | X |  | X
Paper, Film, and Foil Coatings | EPA-453/R-07-003—Control Techniques Guidelines for Paper, Film, and Foil Coatings |  | X | X
Petroleum Liquid Storage Tanks | EPA-450/2-77-036—Control of VOC Emissions from Storage of Petroleum Liquids in Fixed Roof Tanks | X |  | X
Petroleum Liquid Storage Tanks | EPA-450/2-78-047—Control of VOC Emissions from Petroleum Liquid Storage in External Floating Roof Tanks | X |  | X
Pharmaceutical Products | EPA-450/2-78-029—Control of Volatile Organic Emissions from Manufacture of Synthesized Pharmaceutical Products | X |  | X
Resin Manufacturing | EPA-450/3-83-008—Control of VOC Emissions from Manufacture of High-Density Polyethylene, Polypropylene, and Polystyrene Resins | X |  | X
Resin Manufacturing | EPA-450/3-83-006—Control of VOC Fugitive Emissions from Synthetic Organic Chemical Polymer and Resin Manufacturing Equipment | X |  | X
Refineries | EPA-450/2-77-025—Control of Refinery Vacuum Producing Systems, Wastewater Separators, and Process Unit Turnarounds | X |  | X
Refineries | EPA-450/2-78-036—Control of VOC Leaks from Petroleum Refinery Equipment | X |  | X
Rubber Tire Manufacturing | EPA-450/2-78-030—Control of Volatile Organic Emissions from Manufacture of Pneumatic Rubber Tires | X |  | X
Ship Coatings | 61 FR 44050 Shipbuilding and Ship Repair Operations (Surface Coating) | X |  | X
Ship Coatings | EPA-453/R-94-032—Alternative Control Technology Document—Surface Coating Operations at Shipbuilding and Ship Repair Operations (Surface Coating) |  |  | X
Solvent Cleaning Degreasers | EPA-450/2-77-022—Control of Volatile Organic Emissions from Solvent Metal Cleaning | X |  | X
Synthetic Organic Chemical Manufacturing | EPA-450/3-84-015—Control of VOC Emissions from Air Oxidation Processes in Synthetic Organic Chemical Manufacturing Industry | X |  | X
Synthetic Organic Chemical Manufacturing | EPA-450/4-91-031—Control of VOC Emissions from Reactor Processes and Distillation Operations in Synthetic Organic Chemical Manufacturing Industry | X |  | X
Wood Coating Factory Surface of Flat Wood Paneling | EPA-450/2-78-032—Control of Volatile Organic Emissions from Existing Stationary Sources—Volume VII: Factory Surface of Flat Wood Paneling | X |  | X
Wood Furniture Coating | EPA-453/R-96-007—Control of VOC Emissions from Wood Furniture Manufacturing Operations | X |  | X

(ii) A negative declaration for the Control Techniques Guidelines for the Oil and Natural Gas Industry, EPA 453/B-16-001, was submitted on December 7, 2018, as an attachment to a letter dated December 2, 2018, and adopted on August 6, 2018, titled: “Reasonably Available Control Technology (RACT) State Implementation Plan (SIP) Revision for the South Sutter County Portion of the Sacramento Metropolitan Nonattainment Area for 8-Hour ozone—Negative Declaration for Control Techniques Guidelines for the Oil and Natural Gas Industry.”

* * * * *

[FR Doc. 2020-17181 Filed 9-11-20; 8:45 am]

BILLING CODE 6560-50-P